DEPARTMENT OF TRANSPORTATION

Federal Transit Administration

Environmental Impact Statement: Downtown/Natomas/Airport Corridor in Sacramento, CA

AGENCY: Federal Transit Administration, DOT.

ACTION: Notice of intent to prepare an environmental impact statement (EIS).

SUMMARY: The Federal Transit Administration (FTA) and the Sacramento Regional Transit District (RT), intend to prepare an Environmental Impact Statement (EIS) in accordance with the National Environmental Policy Act (NEPA) and an Environmental Impact Report (EIR) in accordance with the California Environmental Quality Act (CEQA) for proposed transit improvements from 7th Street and K Street in downtown Sacramento, north through the South and North Natomas areas to the Sacramento International Airport. To date, 11 alternatives have been identified to be addressed in the EIS/EIR. These alternatives include a no-action alternative, Transportation Systems Demand (TSM) alternative, transit service improvements, bus service expansion alternatives, bus rapid transit (BRT) alternatives, and light rail transit (LRT) alternatives. In addition, alternatives that are identified from the scoping process will be evaluated in the EIS/EIR. Scoping will be accomplished through correspondence and discussions with interested persons; organizations; and federal, state, and local agencies; and through public and agency meetings.

DATES: Comment Due Date: Written comments on the scope of alternatives and impacts to be considered in the EIS/EIR must be received no later than January 28, 2002, and must be sent to RT at the address indicated below. Scoping Meetings: RT will conduct three identical scoping meetings. These meetings will be held on December 11, 2001 from 2 p.m. to 4 p.m. at the Regional Transit Administration Building in the Auditorium, located at 1400 29th Street, Sacramento, California 95812; on December 12, 2001 from 6 p.m. to 8 p.m. at The Club at North Natomas, located at 2101 Club Center Drive, Sacramento, California 95835; and December 13, 2001 from 6 p.m. to 8 p.m. at the South Natomas Community Center, located at 2921 Truxel Road, Sacramento, California 95833.

ADDRESSES: Written comments should be sent to Mr. David M. Melko, Policy and Program Manager, Sacramento Regional Transit District, P.O. Box 2110, Sacramento, California 95812-2110. Phone: (916) 321-2992. Fax: (916) 444-2156.

To be added to the mailing list, contact Ms. Susan Willson, Project Manager of Community Relations, The Hoyt Company, 660 J Street, Suite 444, Sacramento, California 95814, (916) 448-2440, e-mail address: swillson@ns.net. Please specify the mailing list for the Downtown/Natomas/Airport Corridor Alternatives Analysis/Draft Environmental Impact Statement/Report (DNA AA/DEIS/R). Persons with special needs such as sign language interpretation also should contact Susan Willson, Project Manager of Community Relations, as indicated above. The dates and addresses of the scoping meetings are given in the DATES section above. All locations are accessible to people with disabilities.

FOR FURTHER INFORMATION CONTACT: To request a scoping information packet, contact Mr. David Melko, Policy and Program Manager, Sacramento Regional Transit District, P.O. Box 2110, Sacramento, California 95812-2110. Phone: (916) 321-2992. Fax: (916) 444-2156. The Federal Agency contact is Mr. Jerome Wiggins, Office of Planning and Program Development, FTA, 201 Mission Street, Room 2210, San Francisco, CA 94105. Phone: (415) 744-3115.

SUPPLEMENTARY INFORMATION:

I. Description of Study Area and Scope

The Federal Transit Administration (FTA), as joint lead agency with the Sacramento Regional Transit District (RT), will prepare an EIS/EIR on a proposal to improve transit service in an approximately 13-mile-long corridor in north Sacramento, California. The study area begins in downtown Sacramento at 7th and K Streets. The southern terminus of the study boundary is typical of an urban downtown environment, with a mixture of land uses. Traveling north, the proposed action would cross the Union Pacific Railyard at the northern edge of downtown and the American River, possibly on a new bridge, traversing the American River Parkway at Discovery Park. It would pass through the South Natomas area (which consists of a mixture of single- and multi-family residential units, and commercial uses), cross Interstate 80 (I-80) and enter the North Natomas area (which consists of a combination of single- and multi-family residential units, commercial and light industrial uses, agricultural, and open space). The northern terminus of the proposed action is reached by crossing I-5/State Route 99, connecting to the Sacramento International Airport, located approximately 13 miles northwest of downtown Sacramento. The Airport now has a mixture of agricultural and urban uses surrounding it. RT will perform conceptual engineering for transit alternatives within the Sacramento Downtown/Natomas/Airport (DNA) Corridor for a Draft EIS/EIR that satisfies both NEPA and CEQA requirements. In addition, a financial plan will be developed that examines alternative funding sources, including airport related funding opportunities.

II. Purpose and Need

Freeways, highways, streets, and RT's 226 buses and 36 light rail vehicles are currently the primary transportation components responsible for the movement of people and goods in the Sacramento region. All types of services, such as public and private transit services, bicycles and pedestrians, use the existing highway and roadway network. Implementation of the proposed action will serve one of the fastest growing areas of the Sacramento region. The population in RT's service area is expected to grow by about 40 percent over the next 25 years and employment levels are expected to grow even faster. In the DNA Corridor, population is expected to increase by 100 percent (80,000 persons), and employment by 64 percent (83,000 jobs) by 2025. The Sacramento region is a non-attainment area for air quality and measures are needed to reduce mobile source emissions. In addition, RT's current service levels are lower than most of its peer cities of comparable size around the U.S. An expanded transit system will provide greater transportation mobility in a corridor that currently has the lowest amount of transit service in the region, and support economic development in a rapidly growing corridor.

III. Alternatives

The alternatives under consideration include a No-Action Alternative, a Transportation Systems Management (TSM) alternative, two Enhanced Bus Alternatives, two Bus Rapid Transit (BRT) Alternatives, and five Light Rail Transit (LRT) Alternatives. In addition, several sub-alternatives will be evaluated as well as any other alternatives that are identified during the public scoping process. A brief description of the alternatives is provided below. These alternatives will be developed further during the preparation of the Draft EIS/EIR.

Alternative 1: No-Action. This alternative consists of highway and transit systems existing as of year 2000, plus programmed improvements. It serves as the NEPA baseline against which the transportation, environmental, and community impacts of the other alternatives are compared.

Alternative 2: TSM Alternative. This alternative consists of all reasonable cost-effective transit service improvements within the DNA corridor that are in the financially constrained regional transportation plan, short of an investment in a New Starts project. The New Starts Program is a federal program that provides funds for qualifying bus, rail and other transit-related projects.

Alternative 3: Enhanced Bus to North Natomas Town Center. This alternative consists of major expansion in the level of bus service from downtown Sacramento to the North Natomas Town Center, including bus enhancements and high occupancy vehicle (HOV) lane capital improvements along major corridor freeways.

Alternative 4: Enhanced Bus to Sacramento International Airport. This alternative consists of major expansion in the level of bus service from downtown Sacramento to the Sacramento International Airport, including bus enhancements and HOV lane capital improvements along major corridor freeways.

Alternative 5: Bus Rapid Transit to North Natomas Town Center. This alternative consists of major expansion in the level of bus service, HOV lane capital improvements along major corridor freeways, and a Bus Rapid Transit (BRT) guideway from downtown Sacramento to the North Natomas Town Center (following the light rail alignment, including an exclusive BRT bridge across the American River at Discovery Park).

Alternative 6: Bus Rapid Transit to Sacramento International Airport. This alternative consists of major expansion in the level of bus service, HOV lane capital improvements along major corridor freeways, and a BRT guideway from downtown Sacramento to the Sacramento International Airport (following the light rail alignment, including an exclusive BRT bridge across the American River at Discovery Park).

Alternative 7: Light Rail Transit to Richards Blvd/Bus Rapid Transit to Airport. This alternative consists of modest expansion in the level of bus service, with light rail service from downtown Sacramento to Richards Boulevard and a BRT connection to the North Natomas Town Center and the Sacramento International Airport.

Alternative 8: Light Rail Transit to North Natomas Town Center Plus Modest Bus Expansion. This alternative consists of modest expansion in the level of bus service, HOV lane capital improvements along major corridor freeways, with light rail service from downtown Sacramento to the North Natomas Town Center.

Alternative 9: Light Rail Transit to Airport Plus Modest Bus Expansion. This alternative consists of modest expansion in the level of bus service, HOV lane capital improvements along major corridor freeways, with light rail service from downtown Sacramento to the Sacramento International Airport.

Alternative 10: Light Rail Transit to North Natomas Town Center Plus Major Bus Expansion. This alternative consists of major expansion in the level of bus service, HOV lane capital improvements along major corridor freeways, with light rail service from downtown Sacramento to the North Natomas Town Center.

Alternative 11: Light Rail Transit to Airport Plus Major Bus Expansion. This alternative consists of major expansion in the level of bus service, HOV lane capital improvements along major corridor freeways, with light rail service from downtown Sacramento to the Sacramento International Airport.

Sub-Alternatives or alignment options to those described above are being considered at specific locations. These include, but are not limited to:

• Interstate 5 Bridge and Landscape Corridor;

• Truxel Road (including new bridge);

• Highway 160 Bridge;

• WAPA Power Line (in South Natomas);

• Northgate Boulevard (in South Natomas);

• Market Boulevard (in North Natomas); and

• Direct access to Arco Arena.

IV. Probable Effects

The purpose of the EIS/EIR is to fully disclose the environmental consequences of building and operating a major capital investment in the DNA Corridor in advance of any decisions to commit substantial financial or other resources towards its implementation. The EIS/EIR will explore the extent to which study alternatives and alignment options result in environmental impacts and will discuss actions to reduce or eliminate such impacts.

Environmental issues to be examined in the EIS/EIR include: potential changes to the physical environment (natural resources, air quality, noise, water quality, geology, visual); changes in the social environment (land use, development, business and neighborhood disruptions); changes in traffic and pedestrian circulation; changes in transit service and patronage; associated changes in traffic congestion; and impacts on parklands and historic sites. Impacts will be identified both for the construction period and for the long-term operation of the alternatives. The proposed evaluation criteria include transportation, social, economic, and financial measures, as required by current federal (NEPA) and state (CEQA) environmental laws and the implementing regulations of the Council on Environmental Quality and of FTA.

To ensure that the full range of issues related to this proposed action will be addressed and all significant issues identified, comments and suggestions are invited from all interested parties. Comments or questions concerning this proposed action and the EIS/EIR should be directed to the RT Program Manager as noted in the DATES section above.

V. FTA Procedures

To streamline the NEPA process and to avoid duplication of effort, the agencies involved in the scoping process will consider the results of any previous planning studies or financial feasibility studies prepared in support of a decision by the Sacramento Area Council of Governments to include a particular alternative in the regional transportation plan for metropolitan Sacramento. Prior transportation planning studies may be pertinent to establishing the purpose and need for the proposed action and the range of alternatives to be evaluated in detail in the EIS. The Draft EIS/EIR will be prepared simultaneously with conceptual engineering for the alternatives, including station and alignment options. The Draft EIS/EIR process will address the potential use of federal funds for the proposed action, including airport rleated funding opportunities, as well as assesses the social, economic, and environmental impacts of the station and alignment alternatives. Station designs and alignment alternatives will be refined to minimize and mitigate any adverse impacts.

After publication, the Draft EIS/EIR will be available for public and agency review and comment, and a public hearing will be held. Based on the Draft EIS/EIR and comments received, RT will select a locally preferred alternative for further assessment in the Final EIS/EIR and will apply for FTA approval to initiate Preliminary Engineering of the preferred alternative.

Issued on: December 5, 2001.
Leslie T. Rogers,
Region IX Administrator.

[FR Doc. 01-30640 Filed 12-11-01; 8:45 am]

BILLING CODE 4910-57-P